TENNESSEE VALLEY AUTHORITY

Agency Information Collection Activities: Submission for OMB Review; Comment Request

AGENCY: Tennessee Valley Authority (TVA).

ACTION: 30-Day notice of submission of information collection reinstatement approval request to OMB.

SUMMARY: Tennessee Valley Authority (TVA) provides notice of submission of this information clearance request (ICR) to the Office of Management and Budget (OMB) for review and approval in accordance with the Paperwork Reduction Act of 1995 (PRA). The general public and other federal agencies are invited to comment. TVA previously published a 60-day notice of the proposed information collection reinstatement for public review February 22, 2023 and no comments were received.

DATES: The OMB will consider all written comments received on or before May 30, 2023.

ADDRESSES: Written comments for the proposed information collection reinstatement should be sent within 30 days of publication of this notice to www.reginfo.gov/public/do/PRAMain. Find this particular information collection by selecting “Currently under 30-day Review—Open for Public Comments” or by using the search function.

SUPPLEMENTARY INFORMATION:

Type of Request: Reinstatement, with minor modification, of a previously approved information collection for which approval has expired.

Title of Information Collection: Land Use Survey Questionnaire—Vicinity of Nuclear Power Plants.

OMB Control Number: 3316-0016.

Current Expiration Date: 01/30/2023.

Frequency of Use: Annually.

Type of Affected Public: Individuals or Households, farms and business and other for-profit.

Small Businesses or Organizations Affected: Yes.

Federal Budget Functional Category Code: 455.

Estimated Number of Annual Responses: 150.

Estimated Total Annual Burden Hours: 75.

Estimated Average Burden Hours per Response: 0.5.

Need For and Use of Information: This survey is used to locate, for monitoring purposes, rural residents, home gardens, and milk animals within a five-mile radius of a nuclear power plant. The monitoring program is a mandatory requirement of the Nuclear Regulatory Commission set out in the technical specifications when the plants were licensed. The ICR previously approved by OMB expired on January 31, 2023.

Rebecca L. Coffey,
Agency Records Officer.

[FR Doc. 2023-08831 Filed 4-26-23; 8:45 am]

BILLING CODE 8120-08-P